DEPARTMENT OF JUSTICE

Notice of Proposed Notice of Withdrawal of Protective Claim and Settlement Agreement Under the Comprehensive Environmental Response, Compensation and Liability Act (CERCLA)

Notice is hereby given that the United States proposes to enter into a Notice of Withdrawal of Protective Claim and Settlement Agreement with Delta Air Lines, Inc. (“Delta”), pursuant to CERCLA and in accordance with Delta's Plan of Reorganization entered by the United States Bankruptcy Court for the Southern District of New York under chapter 11 of title 11 of the United States Code, Case No. 05-17923.

The proposed agreement provides the United States Environmental Protection Agency (“EPA”) with an allowed general unsecured claim of $31,063 in the Delta Bankruptcy action for Delta's share of EPA's response costs at the Hows Corner Superfund Site in Plymouth, Maine. The agreement further provides for the withdrawal of the United States protective claim for environmental cleanup at the Operating Industries, Inc. Superfund Site (“OII Site”) in Monterey Park, California, upon the effectiveness of an agreement between Delta and the Steering Committee of potentially responsible parties at the OII Site with respect to the Steering Committee's claim in the Bankruptcy action relating to Delta's share of certain clean-up obligations at the OII Site.

The Department of Justice will receive comments relating to the proposed agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to In re Delta Air Lines, Inc., DOJ Ref. No. 90-11-2-156/16.

The proposed Agreement may be examined at the Region 1 Office of the United States Environmental Protection Agency, 1 Congress Street, Suite 1100, Boston, MA 02114-2023 and the Region 9 Office of the United States Environmental Protection Agency, 75 Hawthorne Street, San Francisco, California 94105. During the public comment period, the proposed agreement may also be examined on the following Department of Justice Web site: http://www.usdoj.gov/enrd/Consent_Decrees.html. A copy of the proposed agreement may also be obtained by mail from the Consent Decree Library, P.O. Box 7611, U.S. Department of Justice, Washington, D.C. 20044-7611 or by faxing or e-mailing a request to Tonia Fleetwood (tonia.fleetwood@usdoj.gov), fax no. (202) 514-0097, phone confirmation number (202) 514-1547. In requesting a copy from the Consent Decree Library, please enclose a check in the amount of $1.00 (25 cents per page reproduction cost) payable to the U.S. Treasury.

Henry Friedman,
Assistant Chief, Environmental Enforcement Section, Environment and Natural Resources Division.

[FR Doc. E9-154 Filed 1-8-09; 8:45 am]

BILLING CODE 4410-15-P